DEPARTMENT OF THE INTERIOR

Bureau of Land Management

[BLM_AZ_FRN_MO4500178911]

Notice of Realty Action: Proposed Non-Competitive Commercial Lease, Arizona

AGENCY: Bureau of Land Management, Interior.

ACTION: Notice of realty action; request for comment.

SUMMARY: The Bureau of Land Management (BLM) proposes to issue a non-competitive commercial lease across 17.39 acres of public land in accordance with Section 302 of the Federal Land Policy and Management Act (FLPMA) and applicable BLM leasing regulations. The Arizona State Parks Board (ASPB) proposes to lease the land for continued long term use of an existing marina, which is located along Lake Havasu, in Mohave County, AZ. The lease, if issued, would require the ASPB to pay fair market value rent as established by a federally approved appraisal.

DATES: Submit written comments regarding this proposed non-competitive commercial lease on or before September 3, 2024.

ADDRESSES: Comments may be mailed to Stacey Burke, Realty Specialist, at the BLM Arizona State Office, 1 North Central Avenue, Suite 800, Phoenix, Arizona 85004. Comments may also be emailed to sburke@blm.gov.

FOR FURTHER INFORMATION CONTACT: Stacey Burke, Realty Specialist, telephone: (602) 417-9225, email: sburke@blm.gov; or you may contact the BLM State Office at the above listed address. Details of the proposed action may be attained at the BLM Arizona State Office, at the address above in the ADDRESSES section. Individuals in the United States who are deaf, deafblind, hard of hearing, or have a speech disability may dial 711 (TTY, TDD, or TeleBraile) to access telecommunications relay services. Individuals outside the United States should use the relay services offered within their country to make international calls to the point-of-contact in the United States. You will receive a reply during normal business hours.

SUPPLEMENTARY INFORMATION: The ASPB is currently managing the subject property, known as the Havasu Riviera Marina, under a short-term temporary permit. Currently, development of the marina includes concession facilities, fuel stations, and a grocery store. The ASPB proposes to further develop the marina with the intent to conduct long-term commercial activities, necessitating a transition from a temporary permit to a non-competitive commercial lease. A long-term commercial lease will allow this popular public amenity to continue operations.

An environmental assessment has been completed for the subject property. The BLM, Colorado River District Office, examined the parcel and determined it is appropriate for leasing under FLPMA and BLM regulations at 43 CFR part 2920. Commercial leasing for developed and fee-based recreation use is consistent with the Lake Havasu Field Office Resource Management Plan (2007).

The parcel is located along Lake Havasu, in Mohave County, AZ, south of Lake Havasu City and State Highway 95 and is legally described as:

Gila and Salt River Meridian, Arizona

T. 13 N., R. 20 W.,

Sec. 26, NE¼NE¼, excepting all land below 450 feet mean sea level, according to an exhibit prepared by ARQ Engineering LLC and signed by R. Larry Morse, RLS 16851, dated August 16, 2016. The parcel contains 17.39 acres according to an exhibit prepared by ARQ Engineering LLC and signed by R. Larry Morse, RLS 16851, dated August 16, 2016.

In addition to publishing this notice in the Federal Register, the BLM will mail copies to interested parties on record with BLM and will publish this notice in a newspaper of local circulation once a week for 3 consecutive weeks.

Interested persons may submit comments regarding the specific use proposed and whether the BLM followed proper administrative procedures in this action, or any other factor not directly related to the suitability of the land. Any adverse comments will be reviewed by the authorized officer who may sustain, vacate, or modify this realty action.

Before including your address, phone number, email address, or other personal identifying information in any comment, be aware that your entire comment, including your personal identifying information, may be made publicly available at any time. While you may ask us in your comment to withhold your personal identifying information from public review, we cannot guarantee that we will be able to do so.

(Authority: 43 CFR part 2920)

Raymond Suazo,
Arizona State Director.

[FR Doc. 2024-15726 Filed 7-16-24; 8:45 am]

BILLING CODE 4331-12-P